DEPARTMENT OF JUSTICE

Revision to Notice of Lodging of Settlement Agreement Under the Comprehensive Environmental Response, Compensation, and Liability Act and the Resource Conservation and Recovery Act Published on October 28, 2010

The notice previously published on October 28, 2010, is hereby revised to correct two site location errors. The correct site locations are:

71. the Former Leed's Assembly Plant—Northern Parcel Site in Missouri; and

72. the Former Leed's Assembly Plant—Southern Parcel Site in Missouri.

Instructions for sending comments on the proposed Consent Decree and Settlement Agreement and for obtaining copies of the proposed Decree and Agreement are provided in the October 28, 2010 Notice (Federal Register/Vol. 75, No. 208/Thursday, October 28, 2010/Notices/page 66390).

Maureen Katz,
Assistant Section Chief, Environmental Enforcement Section, Environment and Natural Resources Division.

[FR Doc. 2010-27846 Filed 11-3-10; 8:45 am]

BILLING CODE 4410-15-P